NUCLEAR REGULATORY COMMISSION

[Docket No. 50-219]

Amergen Energy Company, LLC Oyster Creek Nuclear Generating Station; Environmental Assessment and Finding of No Significant Impact

The U.S. Nuclear Regulatory Commission (NRC) is considering issuance of schedular exemptions from Title 10 of the Code of Federal Regulations (10 CFR) Part 50, Section 50.71(e)(4) for Facility Operating License No. DPR-16, which authorizes operation of the Oyster Creek Nuclear Generating Station (OCNGS), a boiling-water reactor facility, located in Ocean County, New Jersey. Therefore, pursuant to 10 CFR 51.21, the NRC is issuing this environmental assessment and finding of no significant impact.

Environmental Assessment

Identification of the Proposed Action

Title 10 of the Code of Federal Regulations (10 CFR) Part 50, Paragraph 50.71(e)(4) requires that licensees provide the NRC with updates to the Updated Final Safety Analysis Report (UFSAR) annually or 6 months after each refueling outage provided the interval between successive updates does not exceed 24 months. The revisions must reflect changes up to 6 months prior to the date of filing. This regulation would require the licensee to submit the next OCNGS UFSAR update by April 25, 2005, which is 24 months after the most recent update (April 25, 2003).

The licensee requested a one-time schedular exemption from the requirements of 10 CFR 50.71(e)(4), extending the filing date by “approximately 6 months.” This one-time schedular exemption would thus extend the 24-month interval between the last and next filing to be 30 months. Since the licensee last submitted an update on April 25, 2003, this proposed one-time, 6-month extension would permit the next update be as late as October 25, 2005.

The licensee also requested a permanent schedular exemption to allow filing of all future UFSAR updates up to 12 months, instead of 6 months, after completion of a refueling outage. Thus, accordingly to the licensee's current refueling schedule, this would permit the licensee to file future updates in the fall of odd-numbered years.

The proposed action is in accordance with the licensee's application for exemption dated March 26, 2004.

The Need for the Proposed Action

In its March 26, 2004, application, the licensee stated that following the schedular requirements of 10 CFR 50.72(e)(4) literally means that the licensee has to file both OCNGS and Peach Bottom Atomic Power Station (PBAPS, owned by the licensee's parent company, Exelon) UFSAR updates in the same time frame (i.e., spring) of odd-numbered years. Such filing schedule for both OCNGS and PBAPS constitutes a hardship for the licensee and its parent company Exelon; additional temporary resources would have to be employed in order to simultaneously prepare both OCNGS and PBAPS updates.

Environmental Impacts of the Proposed Action

The NRC has completed its evaluation of the proposed action and concludes that the exemption is administrative and would not affect any plant equipment, operation, or procedures. The UFSAR contains the analysis, assumptions, and technical details of the facility design and operating parameters. Until the UFSAR is updated, the recent changes are documented in the licensee's written evaluations of changes prepared pursuant to 10 CFR 50.59, and in the NRC's Safety Evaluations for actions requiring prior approval. A delay in submitting the UFSAR update will not change the plant design or the manner in which it is operated.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC staff concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resource than those previously considered in the Final Environmental Statement for OCNGS, dated December 1974, published by the Atomic Energy Commission.

Agencies and Persons Consulted

On May 11, 2004, the NRC staff consulted with the New Jersey State official, Mr. Rich Pinney of the New Jersey Department of Environmental Protection, Bureau of Nuclear Engineering, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 26, 2004. Documents may be examined, and/or copied for a fee, at the NRC's Public Document Room (PDR), located at One White Flint North, Public File Area O1F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 23rd day of June, 2004.
For the Nuclear Regulatory Commission.
Peter S. Tam,
Senior Project Manager, Section 1, Project Directorate I, Division of Licensing Project Management, Office of Nuclear Reactor Regulation.

[FR Doc. 04-15321 Filed 7-6-04; 8:45 am]

BILLING CODE 7590-01-P